DEPARTMENT OF THE INTERIOR

Bureau of Land Management

[CO-2002-1430-EU]

COC 65896; Notice of Realty Action

AGENCY: Bureau of Land Management, Interior.

ACTION: Notice of Realty Action, Direct sale of public land in San Juan County, Colorado.

SUMMARY: The following lands have been found suitable for sale under section 203 of the Federal Land Policy and Management Act of 1976 (90 Stat. 2750, 43 U.S.C. 1713) at not less than the appraised fair market value. The single parcel is described as: Public land within the NE¼ of Section 31, T.42 N., R.7 W., New Mexico Principal Meridian, identified as Tract 73, and containing 3.88 acres, more or less.

These lands are classified for disposal pursuant to section 7 of the Taylor Grazing Act and were identified for disposal in a land use plan which was in effect on September 5, 1985. The lands are hereby segregated from appropriation under the public land laws, including the mining laws, pending disposition of this action or 270 days from the date of publication of this notice, whichever occurs first.

Publication of this notice will initiate public review, consultation, and collaboration for this proposed sale. Copies of the notice will be provided to the Congressional delegation, the Governor, local government officials, and other interested parties for review and comment. Preliminary consultation with local governmental officials and other adjacent landowners indicates that there will be no opposition to the proposed sale.

The parcel is difficult and uneconomic to manage as part of the public lands and is not suitable for management by another Federal department or agency. The sale is consistent with the San Juan/San Miguel Resource Management Plan, and no significant resource values will be affected by this transfer. Disposal of this small parcel to resolve an inadvertent occupancy trespass outweighs retaining the land in federal ownership. The public interest, therefore, will be well served by offering this parcel for direct sale.

The parcel is being offered only to Daren Hillery, fee owner of the adjoining property (Munzer Claim, MS 18619). The subject parcel contains a cabin that is owned by Mr. Hillery. Use of the direct sale procedures authored under 43 CFR 2711.3-3, will resolve an inadvertent occupancy trespass situation. The mineral estate will be reserved to the United States. Payment of purchase price will be deposited in the Federal Land Disposal Account authorized under Section 206 of the Federal Land Transaction Facilitation Act of 2000 (Public Law 106-248).

Terms, conditions, and reservations applicable to the sale are as follows:

1. The public land will be conveyed for not less than fair market value.

2. All mineral deposits in the land, and the right to prospect for, mine and remove such deposits from the same under applicable law and regulations shall be reserved to the United States.

3. A right-of-way for ditches and canals constructed by the authority of the United States under the Act of August 30, 1890 (43 U.S.C. 945) shall be reserved to the United States.

4. The conveyance shall be subject to an existing 25-foot wide right-of-way grant for a power distribution line.

The lands will not be offered for sale until at least 60 days after this notice is published in the Federal Register. This notice is also being published in a newspaper of general circulation in the vicinity of the public lands being proposed for sale.

DATES: Interested parties may submit comments to the Columbine Field Office Manager within 45 days of publication of this notice. Please reference the applicable serial number in all correspondence. Objections will be reviewed and this realty action may be sustained, vacated, or modified.

Unless vacated or modified, this realty action will become the final determination of the Department of the Interior.

Address for Comments: Bureau of Land Management, Columbine Field Office Manager, 15 Burnett Court, Durango, Colorado 81301.

FOR FURTHER INFORMATION CONTACT: Charlie Higby, BLM Realty Specialist, (970) 385-1374; San Juan Public Land Center, 15 Burnett Court, Durango, Colorado 81301.

Mark Stiles,
Center Manager, San Juan Public Lands Center.

[FR Doc. 02-19578 Filed 8-1-02; 8:45 am]

BILLING CODE 4310-JB-P